Title 3—

The President

Proclamation 9354 of October 28, 2015

National Adoption Month, 2015

By the President of the United States of America

A Proclamation

All young people deserve a safe place to live, and with each passing year, more children know the warmth and comfort of a loving family thanks to adoptive parents. People who adopt do so for a variety of reasons, but they are united in the kindness and devotion they show toward children—the people who need it most. During National Adoption Month, we recognize the selflessness of adoptive families, and we thank them for opening their hearts and their doors to young people in need of a safe, stable place to call home.

More than 400,000 children are in foster care across America today, and over 100,000 of these children are waiting for an adoptive home. Last year, over 23,000 youth aged out of the foster care system without having found their forever families. When people adopt, they open up a world of promise and possibility by providing a steady, supportive environment for youth to live in. November 21 marks National Adoption Day, when we unite as families, advocates, and communities—and as a country—to raise awareness of the barriers to adoption and recommit ourselves to moving more of our young people into permanent homes.

My Administration is dedicated to supporting adoptive parents and making it easier for families to adopt. Earlier this year, I implemented new Federal Government leave policies aimed at expanding workplace flexibility and helping employees who are balancing the needs of their family, including the birth or adoption of a child, with the demands of their job. I was proud to permanently extend the Adoption Tax Credit, which helps provide necessary financial support to adoptive families to ease the economic burden of the adoption process. And last summer, the Intercountry Adoption Universal Accreditation Act went into effect—a law I signed to enforce our high legal standards for adoption service providers and to protect parents and children of adoptive families around the world.

Families across our country won a victory earlier this year when the Supreme Court ruled that the Constitution guarantees marriage equality—affirming the notion that LGBT couples deserve to be treated equally. This ruling was a victory for same-sex couples who have fought for equality and for children whose parents' marriages will now be recognized as legitimate throughout America. And because of the ruling, more kids in foster care will now have the chance to be welcomed into a loving and supportive family to call their own.

As we come together to give thanks and show our appreciation for the professionals who work tirelessly to ensure the adoption process runs smoothly and efficiently, we celebrate the stories of those who have been permanently and positively affected by adoption. During National Adoption Month, let us embrace the unique place adoptive families have in America, and let us extend our fullest gratitude to all those who have welcomed home a child in need.

NOW, THEREFORE, I, BARACK OBAMA, President of the United States of America, by virtue of the authority vested in me by the Constitution and the laws of the United States, do hereby proclaim November 2015 as National Adoption Month. I encourage all Americans to observe this month by answering the call to find a permanent and caring family for every child in need and by supporting the families who care for them.

IN WITNESS WHEREOF, I have hereunto set my hand this twenty-eighth day of October, in the year of our Lord two thousand fifteen, and of the Independence of the United States of America the two hundred and fortieth.

[FR Doc. 2015-28035

Filed 10-30-15; 11:15 am]

Billing code 3295-F6-P